DEPARTMENT OF JUSTICE

Antitrust Division

Notice Pursuant to the National Cooperative Research and Production Act of 1993—General Motors Corporation: Restraints Deployment Bus Working Group

Notice is hereby given that, on October 7, 1999, pursuant to Section 6(a) of the National Cooperative Research and Production Act of 1993, 15 U.S.C. 4301 et seq. (“the Act”), General Motors Corporation has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are General Motors Corporation, Detroit, MI; Chrysler Corporation, Auburn Hills; MI; and Ford Motor Company, Dearborn, MI. The nature and objectives of the venture are to research ways to transfer some electronics from the airbag control module to the airbag igniters. It is expected that the igniters will be able to diagnose their health better than the control module is able to do today. It is also expected that the system will become much more robust against wiring issues that are a primary issue with today's technology. To accomplish this objective, the parties are working together and with various potential suppliers to develop this technology. The parties expect to share the information generated with other suppliers and vehicle manufacturers in the future. To accomplish this objective, the parties will perform acts allowed by the National Cooperative Research and Production Act that would advance these goals.

Constance K. Robinson,
Director of Operations, Antitrust Division.

[FR Doc. 00-10622 Filed 4-27-00; 8:45 am]

BILLING CODE 4410-11-M